DEPARTMENT OF ENERGY

Federal Energy Regulatory Commission

[Docket No. RM07-10-000; Docket No. AD06-11-000]

Transparency Provisions of Section 23 of the Natural Gas Act, Transparency Provisions of the Energy Policy Act of 2005; Notice of Workshop

June 1, 2007.

The staff of the Federal Energy Regulatory Commission (Commission) will hold an informal workshop in the above-referenced proceedings on July 24, 2007, at the Federal Energy Regulatory Commission, 888 First Street, NE., Washington, DC 20426 in Meeting Room 3M-2A&B from 9:30 a.m. until 5 p.m. (EST). The staff is holding this workshop to discuss various implementation and other technical issues associated with the proposals set forth in the Notice of Proposed Rulemaking (NOPR), Transparency Provisions of Section 23 of the Natural Gas Act, 72 FR 20791 (Apr. 26, 2007), FERC Stats. & Regs. ¶ 32,614 (2007). All interested persons are invited, and there is no registration fee to attend.

This notice is to alert you to the date of the workshop. A further notice will define the issues to be explored. This workshop will not be web-cast. Comments should be filed in Docket RM07-10-000, in accordance with the dates set in the rulemaking docket.

Questions about the conference should be directed to Lee Choo by e-mail at lee-ken.choo@FERC.gov or by phone at 202-502-6334.

Kimberly D. Bose,
Secretary.

[FR Doc. E7-10999 Filed 6-6-07; 8:45 am]

BILLING CODE 6717-01-P